COMMISSION ON CIVIL RIGHTS

Agenda and Notice of Public Meeting of the Colorado Advisory Committee

Notice is hereby given, pursuant to the provisions of the rules and regulations of the U.S. Commission on Civil Rights, that a meeting of the Colorado Advisory Committee to the Commission will convene at 11:30 a.m. and adjourn at 3:30 p.m. on Thursday, May 11, 2000, at the Wellshire Inn, 3333 South Colorado Boulevard, Denver, Colorado 80222 (303-759-3333). The purpose of the meeting is to discuss follow-up to community forums in northern and southern Colorado and plan forum in western Colorado; roundtable discussion on civil rights issues in Colorado.

Persons desiring additional information, or planning a presentation to the Committee, should contact Committee Chairperson or John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, March 22, 2000.
Carol-Lee Hurley,
Chief, Regional Programs Coordination Unit.

[FR Doc. 00-7902 Filed 3-29-00; 8:45 am]

BILLING CODE 6335-01-P